DEPARTMENT OF ENERGY

Federal Energy Regulatory Commission

Combined Notice of Filings

Take notice that the Commission has received the following Natural Gas Pipeline Rate and Refund Report filings:

Filings Instituting Proceedings

Docket Number: PR18-67-001.

Applicants: Pacific Gas and Electric Company.

Description: Tariff filing per 284.123(b),(e)+(g): Amendment to Revisions to SOC 2018 Annual Gas True-Up filing to be effective 1/1/2018.

Filed Date: 9/12/18.

Accession Number: 201809125034.

Comments Due: 5 p.m. ET 10/3/18.

284.123(g) Protests Due: 5 p.m. ET 10/3/18.

Docket Numbers: RP18-1183-000.

Applicants: SWN Energy Services Company, LLC, Flywheel Energy Operating, LLC.

Description: Joint Petition for Temporary Waivers of Capacity Release Regulations and Policies, et al. of SWN Energy Services Company, LLC, et al.

Filed Date: 9/17/18.

Accession Number: 20180917-5084.

Comments Due: 5 p.m. ET 9/24/18.

Docket Numbers: RP18-1184-000.

Applicants: El Paso Natural Gas Company, L.L.C.

Description: Penalty Crediting Report of El Paso Natural Gas Company, L.L.C.

Filed Date: 9/17/18.

Accession Number: 20180917-5092.

Comments Due: 5 p.m. ET 10/1/18.

Docket Numbers: RP18-1185-000

Applicants: Northern Natural Gas Company.

Description: § 4(d) Rate Filing: 20180917 Negotiated Rates to be effective 9/18/2018.

Filed Date: 9/17/18.

Accession Number: 20180917-5115.

Comments Due: 5 p.m. ET 10/1/18.

Docket Numbers: RP18-1186-000.

Applicants: Northern Natural Gas Company.

Description: § 4(d) Rate Filing: 20180917 Remove Non Conforming to be effective 11/1/2018.

Filed Date: 9/17/18.

Accession Number: 20180917-5116.

Comments Due: 5 p.m. ET 10/1/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 18, 2018.
Nathaniel J. Davis, Sr.,
Deputy Secretary.

[FR Doc. 2018-20730 Filed 9-21-18; 8:45 am]

BILLING CODE 6717-01-P